DEPARTMENT OF ENERGY

Federal Energy Regulatory Commission

Combined Notice of Filings #2

Take notice that the Commission received the following electric rate filings:

Docket Numbers: ER13-1938-001.

Applicants: Midcontinent Independent System Operator, Inc.

Description: Compliance filing: 2015-08-18_MISO-SPP Order 1000 Compliance to be effective 3/30/2014.

Filed Date: 8/18/15.

Accession Number: 20150818-5134.

Comments Due: 5 p.m. ET 9/8/15.

Docket Numbers: ER15-2472-000.

Applicants: Midcontinent Independent System Operator, Inc.

Description: Section 205(d) Rate Filing: 2015-08-18_SA 2829 Entergy Arkansas-Pine Bluff Energy GIA (J328) to be effective 8/19/2015.

Filed Date: 8/18/15.

Accession Number: 20150818-5109.

Comments Due: 5 p.m. ET 9/8/15.

Docket Numbers: ER15-2473-000.

Applicants: HIC Energy, LLC.

Description: Baseline eTariff Filing: HIC Energy MBR Application to be effective 10/18/2015.

Filed Date: 8/18/15.

Accession Number: 20150818-5116.

Comments Due: 5 p.m. ET 9/8/15.

Docket Numbers: ER15-2474-000.

Applicants: Puget Sound Energy, Inc.

Description: Initial rate filing: Kittitas NITSA Amendment No 2 SA No. 506 to be effective 2/1/2015.

Filed Date: 8/18/15.

Accession Number: 20150818-5124.

Comments Due: 5 p.m. ET 9/8/15.

Docket Numbers: ER15-2475-000.

Applicants: Puget Sound Energy, Inc.

Description: Initial rate filing: Sumas NITSA Amendment No 2 SA No. 626 to be effective 2/1/2015.

Filed Date: 8/18/15.

Accession Number: 20150818-5125.

Comments Due: 5 p.m. ET 9/8/15.

Docket Numbers: ER15-2476-000.

Applicants: Puget Sound Energy, Inc.

Description: Initial rate filing: Tanner Electric NITSA Amendment No 2 SA No 543 to be effective 2/1/2015.

Filed Date: 8/18/15.

Accession Number: 20150818-5128.

Comments Due: 5 p.m. ET 9/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 18, 2015.
Nathaniel J. Davis, Sr.,
Deputy Secretary.

[FR Doc. 2015-20940 Filed 8-24-15; 8:45 am]

BILLING CODE 6717-01-P